DEPARTMENT OF ENERGY

Federal Energy Regulatory Commission

Combined Notice of Filings #1

Docket Numbers: EC13-85-000.

Applicants: BIV Generation Company, L.L.C., Colorado Power Partners, Rocky Mountain Power, LLC, San Joaquin Cogen, LLC.

Description: Errata to March 23, 2013 Application (Public Version) for Authorization for Disposition of Jurisdictional Facilities of BIV Generation Company, L.L.C., et al.

Filed Date: 3/27/13.

Accession Number: 20130327-5154.

Comments Due: 5 p.m. ET 4/17/13.

Take notice that the Commission received the following electric rate filings:

Docket Numbers: ER10-1707-002; ER11-3623-001; ER11-3460-003.

Applicants: Hess Corporation, Hess Small Business Services LLC, Bayonne Energy Center, LLC.

Description: Second supplement to January 24, 2013 Notice of Change in Status of Hess Corporation, et al.

Filed Date: 4/8/13.

Accession Number: 20130408-5200.

Comments Due: 5 p.m. ET 4/29/13.

Docket Numbers: ER11-3401-008.

Applicants: Golden Spread Panhandle Wind Ranch, LLC.

Description: Amendment to December 31, 2012 Golden Spread Panhandle Wind Ranch, LLC Updated Market Power Analysis for Southwest Power Pool, Inc. Region.

Filed Date: 4/9/13.

Accession Number: 20130409-5173.

Comments Due: 5 p.m. ET 4/30/13.

Docket Numbers: ER11-3576-008.

Applicants: Golden Spread Electric Cooperative, Inc.

Description: Updated Market Power Analysis—Revision to be effective 12/28/2012.

Filed Date: 4/9/13.

Accession Number: 20130409-5158.

Comments Due: 5 p.m. ET 4/30/13.

Docket Numbers: ER12-2448-004.

Applicants: Chisholm View Wind Project, LLC.

Description: Chisholm View Wind Project, LLC MBR Tariff to be effective 9/15/2012.

Filed Date: 4/9/13.

Accession Number: 20130409-5148.

Comments Due: 5 p.m. ET 4/30/13.

Docket Numbers: ER13-1180-000.

Applicants: PacifiCorp.

Description: PacifiCorp Energy Carbon Decommissioning Construction Agmt Supplemental Filing to be effective N/A.

Filed Date: 4/10/13.

Accession Number: 20130410-5055.

Comments Due: 5 p.m. ET 5/1/13.

Docket Numbers: ER13-1248-000.

Applicants: PATUA PROJECT LLC.

Description: Supplemental to April 4, 2013 PATUA PROJECT LLC tariff filing.

Filed Date: 4/10/13.

Accession Number: 20130410-5087.

Comments Due: 5 p.m. ET 5/1/13.

Docket Numbers: ER13-1249-000.

Applicants: MYOTIS POWER MARKETING LLC.

Description: Supplemental to April 4, 2013 MYOTIS POWER MARKETING LLC tariff filing.

Filed Date: 4/10/13.

Accession Number: 20130410-5083.

Comments Due: 5 p.m. ET 5/1/13.

Docket Numbers: ER13-1255-000.

Applicants: The Narragansett Electric Company.

Description: Interconnection Agreement Between Narragansett Electric Co. and Pawtucket to be effective 4/9/2013.

Filed Date: 4/9/13.

Accession Number: 20130409-5142.

Comments Due: 5 p.m. ET 4/30/13.

Docket Numbers: ER13-1256-000.

Applicants: The Narragansett Electric Company.

Description: Interconnection Agreement Between Narragansett Electric Co. and Pontiac to be effective 6/9/2013.

Filed Date: 4/9/13.

Accession Number: 20130409-5160.

Comments Due: 5 p.m. ET 4/30/13.

Docket Numbers: ER13-1257-000.

Applicants: New England Power Pool Participants Committee, ISO New England Inc.

Description: Rev. to ISO-NE FAP and ISO-NE Bill. Pol. Rel. to Mod. DA Eng. Mkt. to be effective 5/15/2013.

Filed Date: 4/10/13.

Accession Number: 20130410-5054.

Comments Due: 5 p.m. ET 4/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2013.
Nathaniel J. Davis, Sr.,
Deputy Secretary.

[FR Doc. 2013-09101 Filed 4-17-13; 8:45 am]

BILLING CODE 6717-01-P